DEPARTMENT OF THE INTERIOR

Fish and Wildlife Service

50 CFR Part 17

[Docket No. FWS-R8-ES-2013-0078; 4500030113]

RIN 1018-AY27

Endangered and Threatened Wildlife and Plants; Endangered Status for Vandenberg Monkeyflower

AGENCY: Fish and Wildlife Service, Interior.

ACTION: Final rule.

SUMMARY: We, the U.S. Fish and Wildlife Service (Service), determine endangered species status under the Endangered Species Act of 1973 (Act), as amended, for Diplacus vandenbergensis (Vandenberg monkeyflower), a plant species from Santa Barbara County, California. The effect of this regulation will be to add this species to the Federal List of Endangered and Threatened Plants.

DATES: This rule is effective September 25, 2014.

ADDRESSES: This final rule is available on the Internet at http://www.regulations.gov (Docket No. FWS-R8-ES-2013-0078). Comments and materials we received, as well as supporting documentation we used in preparing this rule, are available for public inspection at http://www.regulations.gov. Comments, materials, and documentation that we considered in this rulemaking are available by appointment, during normal business hours at: U.S. Fish and Wildlife Service, Ventura Fish and Wildlife Office, 2493 Portola Road, Suite B, Ventura, CA 930032; telephone 805-644-1766; or facsimile 805-644-3958.

FOR FURTHER INFORMATION CONTACT: Stephen P. Henry, Field Supervisor, U.S. Fish and Wildlife Service, Ventura Fish and Wildlife Office, 2493 Portola Road, Suite B, Ventura, CA 930032; telephone 805-644-1766; or facsimile 805-644-3958. Persons who use a telecommunications device for the deaf (TDD) may call the Federal Information Relay Service (FIRS) at 800-877-8339.

SUPPLEMENTARY INFORMATION:

Previous Federal Action

Please refer to the proposed listing rule for Vandenberg monkeyflower (78 FR 64840; October 29, 2013) for a detailed description of previous Federal actions concerning this species.

We will also publish a final rule to designate critical habitat for Vandenberg monkeflower under the Act in the near future (16 U.S.C. 1531 et seq.).

Background

Vandenberg monkeyflower is a small, annual herbaceous plant in the Lopseed family (Phrymaceae) with stems that are glandular and usually green with purplish tinting. Plants produce a single yellow flower, or plants are branched producing multiple flowers. The tubular yellow flowers are bilaterally symmetrical, with the distal ends of the petals forming a unique structure that is likened to a face; hence, the common name monkeyflower.

Vandenberg monkeyflower occupies a specific landscape in Santa Barbara County, California, known as Burton Mesa. Burton Mesa supports a mosaic of several native vegetation types, including maritime chaparral, maritime chaparral mixed with coastal scrub, oak woodland, and small patches of native grasslands (Wilken and Wardlaw 2010, p. 2). The maritime chaparral on Burton Mesa is referred to as Burton Mesa chaparral (Odion et al. 1992, pp. 5-6; Sawyer et al. 2009, p. 376), and is dominated by evergreen shrubs and scattered multi-trunked Quercus agrifolia (coast live oak) that form open stands to almost impenetrable thickets over large areas of Burton Mesa, with heights reaching up to 13 ft (4 m) (Gevirtz et al. 2007, pp. 95-96). Vandenberg monkeyflower does not grow beneath the canopy of shrubs or oaks, but rather in the sandy openings (canopy gaps) that occur in-between shrubs. Sandy openings have been noted for their high abundance and diversity of annual and perennial herbaceous species, compared to those found in the understory of the shrub canopy (Hickson 1987, Davis et al. 1989; Keeley et al. 1981; Horton and Kraebel 1955).

Vandenberg monkeyflower is sensitive to annual levels of rainfall (Thompson 2005, p. 23), and, therefore, germination of resident seed banks may be low or nonexistent in unfavorable years, with little or no visible aboveground expression of the species. The annual differences in the numbers and location of aboveground plants indicate the presence of a seed bank.

Vandenberg monkeyflower is currently known to occur within sandy openings at nine extant locations; one additional location is potentially extirpated (see Distribution of Vandenberg Monkeyflower in the proposed listing rule (78 FR 64840; October 29, 2013)). Because portions of Burton Mesa are inaccessible and difficult to survey, Vandenberg monkeyflower has the potential to occur in areas within sandy openings where it has not yet been observed. However, not all sandy openings within the shrub canopy appear to be currently suitable for Vandenberg monkeyflower because some of the sandy openings consist of sands that structurally seem more consolidated and currently do not support this species (Rutherford in litt. 2012). To date, all of the extant occurrences of Vandenberg monkeyflower are within sandy openings where the structure of the sands appears loose (Rutherford in litt. 2012).

Please refer to the Background section of Vandenberg monkeyflower's proposed listing rule (78 FR 64840; October 29, 2013) for a summary of additional species information.

Summary of Changes From the Proposed Rule

Based on comments and information received from peer reviewers and the public, we are revising our discussions of the following specific biological information for Vandenberg monkeyflower: Dispersal ecology and pollinator ecology. Additional information related to description and taxonomy, life history, geographic setting, climate, habitat, land ownership, distribution, and current status/occurrences is available in the Background section of the proposed listing rule (78 FR 64840; October 29, 2013).

Dispersal Ecology

Seeds of Vandenberg monkeyflower are small and light in weight, dispersing primarily by gravity and also by water and wind over relatively short distances (Thompson 2005, p. 130; Fraga in litt. 2012). The small size of the seed makes it likely that short-distance dispersal could also be facilitated by ants, as has been noted for other small-seeded plant taxa (Cain et al. 1998, pp. 328-330). The literature on seed dispersal discusses that, while short-distance dispersal occurs with high frequency (Cain et al. 2000, p. 1218), this method of dispersal is most important for understanding dispersal of seeds within populations (e.g., metapopulation dynamics), recruitment patterns, and resource use (Nathan et al. 2003, p. 261).

Dispersal of seed between populations and dispersal of seed from established populations to newly colonized sites are typically the result of less frequently occurring, long-distance seed dispersal events (Cain 2000, pp. 1217-1227; Nathan et al. 2003, p. 262). Moreover, while there is good correlation between seed morphology and short-distance dispersal, seed morphology characteristics are less important for understanding long-distance dispersal because long-distance dispersal is more dependent on the dispersal event. Therefore, while seed morphology characteristics of Vandenberg monkeyflower are consistent with short-term dispersal, long-distance dispersal events would still be important for dispersing seed between populations and to new sites with suitable habitat. We recognize, however, that determining long-distance seed dispersal distances for any species is challenging because of the difficulty observing and quantifying long-distance dispersal events.

Long-distance dispersal of seeds occurs in numerous ways, including vertebrate dispersal (by adhesion or ingestion), wind dispersal of seeds (in updrafts and storms, or by secondary dispersal over the substrate), wind dispersal of plants (tumble-plant dispersal), and water dispersal (Cain et al. 2000, p. 1218). Given that the Burton Mesa area is subject to occasional high winds (see discussion in Climate section in the proposed listing rule), long-distance dispersal of Vandenberg monkeyflower seeds likely occurs during these wind events. Wind dispersal likely leads to a random dispersal of seeds, some of which fall into suitable habitat.

Pollinator Ecology

First, we are correcting a reference that was cited in our proposed listing rule. Specifically, we cited Krombein et al. (1979) for a list of pollinators observed on Vandenberg monkeyflower. However, the list of pollinators was for those that have been observed on Diplacus [Mimulus] fremontii, a closely related species.

Second, we are revising our discussion on the pollination ecology of Vandenberg monkeyflower to include additional information about potential Vandenberg monkeyflower pollinators, both with respect to the wider array of pollinators as well as the inclusion of pollinators that are considered of large size. Species of Diplacus are predominantly bee-pollinated, although the genus also includes species that are pollinated by hummingbirds, hawk moths (Sphingidae), beeflies (Bombyliidae), and other flies (order Diptera) (Wu et al. 2008, p. 224). Species of bees that have been observed to visit flowers of the closely related Fremont monkeyflower (Diplacus [Mimulus] fremontii) include sweat bees (Dufourea versatilis rubriventris), miner bees (Perdita nitens, Caliopsis [Nomadopsis] fracta and C. nomadopsis trifolii), mason bees (Hoplitis product bernardina), and leaf-cutter bees (Anthidium collectum, Chelostoma cockerelli, C. minutum, C. phaceliae, Chelostomopsis rubifloris, and Ashmeadiella timberlakei timberlakei) (Krombein et al. 1979, pp. 1863-2030; Bugguide 2012; The Xerces Society 2012). Additionally, Inouye (in litt. 2012) observed that small solitary bees were the most common pollinators on three other species of small annual monkeyflower species from dry and mesic habitats (D. androsaceus, D. angustatus, and D. douglasii); and Fraga (in litt. 2012) has observed halictid bees (Halictidae) on other small monkeyflower species.

Observations of insects specifically on Vandenberg monkeyflower include domestic honey bees (Apis mellifera), an unidentified native bee, a medium-sized bumblebee (Bombus sp.), and a small black wasp (Chesnut in litt. 2014). In addition, Ballard (in litt. 2014) documented a number of insects within Vandenberg monkeyflower habitat, and though not specifically observed on Vandenberg monkeyflower, are consistent with other observations of likely pollinators; these include blue mud wasp (Chalybion californicum), common eumenid wasp (yellow and black) (Euodynerus annulatum), burrowing bee (Apinae), sweat bee (Halictidae), and honeybees (Apis mellifera). Although most of the bees listed here are considered to be small (6-8 mm long) or medium-sized (8-10 mm long) bees, some of them (such as the honeybees) are considered to be large (over 10 mm long) bees.

Summary of Biological Status and Threats

Section 4 of the Act (16 U.S.C. 1533), and its implementing regulations at 50 CFR part 424, set forth the procedures for adding species to the Federal Lists of Endangered and Threatened Wildlife and Plants. Under section 4(a)(1) of the Act, we may list a species based on any of the following five factors: (A) The present or threatened destruction, modification, or curtailment of its habitat or range; (B) overutilization for commercial, recreational, scientific, or educational purposes; (C) disease or predation; (D) the inadequacy of existing regulatory mechanisms; and (E) other natural or manmade factors affecting its continued existence. Listing actions may be warranted based on any of the above threat factors, singly or in combination. Each of these factors is discussed below.

Factor A. The Present or Threatened Destruction, Modification, or Curtailment of Its Habitat or Range

Factor A threats to Vandenberg monkeyflower habitat include development (military, State lands, and residential); utility maintenance and miscellaneous activities; invasive, nonnative plants; anthropogenic (influenced by human-caused activity) fire; recreation; and climate change. These impact categories overlap or act in concert with each other to adversely affect Vandenberg monkeyflower habitat. The full analysis for each of these Factor A threats is described in detail in the October 29, 2013, proposed listing rule (78 FR 64840), and is summarized below. The proposed rule also provides a discussion of the various conservation measures that have occurred to date to assist in addressing these threats (see Factor A—Conservation Measures Undertaken section of the proposed listing rule).

Development

Most of the historical loss of Burton Mesa chaparral where Vandenberg monkeyflower occurs is due to military activities (Vandenberg AFB), residential communities (Vandenberg Village, Mission Hills, and Mesa Oaks), infrastructure at La Purisima Mission State Historic Park (SHP), and commercial development that occurred in the past and resulted in many developed areas that have existed for decades, although historical loss of chaparral is also due to the presence and expansion of invasive, nonnative plants. Prior to 1938, there were approximately 23,550 ac (9,350 ha) of Burton Mesa chaparral (Hickson 1987, p. 34). In 2012, approximately 10,057 ac (4,070 ha) of Burton Mesa chaparral remained, which represents a loss of 53 percent of the original upland habitat (Service 2012, unpublished data). Based on the habitat characteristics of Burton Mesa chaparral, it is probable that an equivalent percent loss of sandy openings that occur in-between shrubs may have occurred over this timeframe (see Background—Habitat section of the proposed listing rule).

The majority of remaining Burton Mesa chaparral where Vandenberg monkeyflower occurs is within Federal or State-owned lands and is protected from development. Therefore, large-scale future development of remaining Burton Mesa chaparral is not likely to occur and thus is not a significant threat to Vandenberg monkeyflower. However, smaller-scale private property development; access to easements; maintenance of utility, oil, and gas pipelines; fire and fire suppression; and authorized and unauthorized recreational activities may continue to take place throughout Burton Mesa. Some of these activities may occur within Burton Mesa chaparral or adjacent to occurrences of Vandenberg monkeyflower, resulting in the destruction and possible removal of Vandenberg monkeyflower habitat and creating open areas for nonnative plants to invade. Therefore, the direct destruction and alteration of chaparral habitat (Factor A) is likely to continue on a relatively small scale and is thus considered a threat to Vandenberg monkeyflower both currently and in the future.

Utility and Pipeline Maintenance

Utility and pipeline structures occur within the Burton Mesa Ecological Reserve (Reserve), and access routes through the Reserve service the Plains Exploration and Production Company oil processing plant, which surrounds the La Purisima Management Unit of the Reserve. Additionally, local land use agencies and public works agencies retain other utilities and pipelines, and easements for access. For example, the Vandenberg Village Community Services District has several structures (including water tanks, a water processing plant, wells, and water lines and sewer lines) located within the Reserve (Gevirtz et al. 2007, p. 63). These existing facilities or structures at times require routine maintenance to ensure proper operation. As a result, vehicles and foot traffic could occur at or adjacent to these structures and potentially result in trampling of habitat and other soil surface disturbance, which in turn could result in ground disturbance that removes Burton Mesa chaparral and creates open areas in the vegetation that act as pathways for nonnative plants to expand or invade. There is no indication that ongoing maintenance activities of existing pipelines and utilities have directly impacted Vandenberg monkeyflower habitat. However, utility maintenance actions could result in ground disturbance that removes Burton Mesa chaparral, creating open areas in the vegetation that act as pathways for nonnative plants to invade.

Invasive, Nonnative Species

Invasive, nonnative plants occur and are expanding throughout the Burton Mesa. More specifically, at least one of the four most problematic invasive plants occurs within or adjacent to suitable habitat at each of the nine extant occurrences of Vandenberg monkeyflower and at one potentially extirpated location. Invasive plants have demonstrated the ability to reduce the diversity of native vegetation and convert the native shrublands into nonnative-dominated vegetation. In some areas, particularly on Vandenberg AFB, veldt grass, iceplant, and pampas grass when first introduced were only minor components of the vegetation; today, these nonnatives are dominant components of the vegetation at the locations where they were introduced, and they have expanded to new areas. The expansion of invasive, nonnative plants is also prevalent on the Reserve and at La Purisima Mission SHP. Native shrub recruitment and growth of native annuals into open areas are substantially decreased where these invasive, nonnative plants become established. Thus, it is likely that invasive, nonnative plants will become more dominant where they already occur and will continue to expand to new areas due to the human activities on Burton Mesa, the competitive fitness of these invasive plants, the direction of the prevailing wind, and the potential for small- and large-scale disturbances (see Factor A—Development and Anthropogenic Fire), all of which could create open areas that promote invasive, nonnative species invasion and expansion.

With regard to site-specific impacts to Vandenberg monkeyflower habitat, veldt grass has been observed occurring within suitable habitat at each of the nine extant occurrences and at one potentially extirpated location. Recent observations of the habitat at all nine extant occurrences indicate that veldt grass is expanding and becoming dominant in the sandy openings where Vandenberg monkeyflower grows. Because veldt grass will outcompete native vegetation (including overcrowding the sandy openings where Vandenberg monkeyflower grows) and is very difficult to eradicate once it is established, the presence and expansion of veldt grass within known occurrences of Vandenberg monkeyflower is a continuous threat because it reduces the amount and quality of this species' habitat. Three other invasive, nonnative species (iceplant, Sahara mustard, and pampas grass) have substantial impacts to Vandenberg monkeyflower and its habitat. These species, along with numerous other nonnative plant species, are present throughout Burton Mesa and at all extant occurrences of Vandenberg monkeyflower. Similar to veldt grass, the other invasive, nonnative plants reduce the amount and quality of habitat for Vandenberg monkeyflower by outcompeting Burton Mesa chaparral vegetation and decreasing the amount and availability of the sandy openings where Vandenberg monkeyflower grows. Nevertheless, no invasive plant is as prevalent and represents as much of a threat to Vandenberg monkeyflower habitat as veldt grass.

Anthropogenic Fire

Because of the human presence and infrastructure on Burton Mesa, the frequency of human-caused wildfires is likely greater than the frequency of historical fires on the mesa. An increased fire frequency in Burton Mesa chaparral would tend to favor the establishment of nonnative vegetation in open areas at the expense of native vegetation. However, the primary threat to Vandenberg monkeyflower and its habitat from fire is the post-fire expansion of invasive, nonnative plants, regardless of the fire frequency. Because an abundance of nonnative plants already occurs on the mesa, and invasive plants rapidly invade open areas, any fire that occurs within or adjacent to Vandenberg monkeyflower habitat is likely to result in an increase of invasive, nonnative vegetation. Likewise, fire suppression activities that include clearing vegetation in fuel breaks or spreading retardant would increase the likelihood of nonnative species invading suitable Vandenberg monkeyflower habitat, as well as enhance the habitat conditions for invasive species expansion. Additionally, because the presence of invasive, nonnative plants creates a positive feedback mechanism, the greater the percent cover of nonnative vegetation, the more likely fires will occur on Burton Mesa. Based on the information presented in this section, the current threat from anthropogenic fire and associated fire suppression activities to Vandenberg monkeyflower habitat described above is expected to continue into the future.

Recreation and Other Human Activities

Recreational activities that occur throughout Burton Mesa include authorized uses such as hunting, hiking, biking, wildlife observation, and leashed-dog walking. Additionally, off-road vehicle (ORV) use is authorized on Vandenberg AFB (Air Force 2011a, p. 6), but it is not permitted on the Reserve (Gevirtz et al. 2007, p. 70) or La Purisima Mission SHP (California State Parks 1991, p. 109). ORV use and other casual recreational activities may contribute to soil disturbance and increase the potential for invasive, nonnative plants to be introduced and further spread across Burton Mesa, including into locations where Vandenberg monkeyflower and its suitable habitat occurs. At this time, the best available information does not indicate that recreational activities pose a substantial direct threat to Vandenberg monkeyflower habitat, although these activities would indirectly affect the habitat by contributing to the spread of invasive, nonnative plants within the habitat and reducing the habitat quality.

Climate Change

Climate change may have potential impacts on Vandenberg monkeyflower and its habitat (Factors A and E), such as increased temperatures and decreased precipitation that would likely reduce suitable habitat. Scientific measurements spanning several decades demonstrate that changes in climate are occurring, and that the rate of change has increased since the 1950s. Within central-western California (i.e., counties along the California coast from the San Francisco Bay area south to Santa Barbara County), regional climate models project a mean annual temperature increase of 1.6 to 1.9 degrees Celsius (°C) (2.9-3.4 degrees Fahrenheit (°F)) and a mean diurnal temperature range increase of 0.1 to 0.2 °C (0.2-0.4 °F) by 2070 (Point Reyes Bird Observatory (PRBO) Conservation Science 2011, p. 35). The projected impacts of climate change are warmer winter temperatures, earlier warming in the spring, and increased summer temperatures (PRBO Conservation Science 2011, p. 35). Additionally, regional climate models project a decrease in mean annual rainfall of 2.4 to 7.4 in (6.1 to 18.8 cm) (PRBO Conservation Science 2011, p. 35). The large range of possible precipitation change (−11 percent to −32 percent) is due to different model projections and sensitivity. This sensitivity indicates substantial uncertainty in precipitation projections (PRBO Conservation Science 2011, p. 35). Other scientific sources (Snyder et al. 2004, pp. 594-595) project similar temperature increases and precipitation decreases along the central California coast.

To estimate what changes in rainfall and temperature, if any, would occur in the Burton Mesa area over the next 50 years, we used both local weather data and an available projection tool called ClimateWizard (2012). ClimateWizard (2012) projects that rainfall would decrease an average of 8 to 12 percent from baseline and temperature would rise approximately 2.5 °F (1.4 °C) by the 2050s. A comparison between the Burton Mesa area and the eastern portion of Santa Barbara County (for example, 30 mi (48 km) east of the Burton Mesa area, which is projected to rise approximately 5 °F (2.8 °C)), indicates that the change in temperature is expected to be less in the Burton Mesa area. This prediction is likely due to the moderating influence of ocean temperatures in coastal areas.

We recognize that climate change is an important issue with potential impacts to species and their habitats, including Vandenberg monkeyflower. Regional climate projections indicate that a warming and drying trend is likely in central-western California, which would likely make habitat less favorable for Vandenberg monkeyflower. However, as stated above, these warming and drying effects may be moderated by the marine influence. Therefore, climate change may not affect Vandenberg monkeyflower or its habitat as quickly or as extensively as may be projected.

Factor B. Overutilization for Commercial, Recreational, Scientific, or Educational Purposes

No available information indicates any impacts to Vandenberg monkeyflower related to overutilization for commercial, recreational, scientific, or educational purposes or that these activities would increase in the future. Therefore, we do not consider this factor to be a threat to Vandenberg monkeyflower, nor do we expect it to be in the future.

Factor C. Disease or Predation

We have no information indicating any impacts to Vandenberg monkeyflower related to disease or predation, or that disease or predation may become a concern in the future. Therefore, we do not consider disease or predation to be threats to Vandenberg monkeyflower, nor do we expect them to become threats in the future.

Factor D. The Inadequacy of Existing Regulatory Mechanisms

Under this factor, we examine whether existing regulatory mechanisms are inadequate to address the threats to Vandenberg monkeyflower discussed under other factors. We give strongest weight to statutes and their implementing regulations, and management direction that stems from those laws and regulations. They are nondiscretionary and enforceable, and are considered a regulatory mechanism under this analysis. Examples include State governmental actions enforced under a State statute or constitution, or Federal action under statute.

Some other programs are more voluntary in nature or dependent on available funding (see Conservation Measures Undertaken under Factor A in the proposed listing rule); in those cases, we analyze the specific facts for that effort to ascertain its effectiveness at mitigating the threat and the extent to which it can be relied on in the future. Having evaluated the significance of the threat as mitigated by any such conservation efforts, we analyze under Factor D the extent to which existing regulatory mechanisms adequately address the specific threats to the species. Regulatory mechanisms, if they exist, may preclude the need for listing if we determine that such mechanisms adequately address the threats to the species such that listing is not warranted.

We note that Vandenberg monkeyflower is not State-listed as endangered or threatened. The Service added this species to the Federal list of candidate species on November 10, 2010 (75 FR 69222; see previous Federal Actions in the proposed rule) and proposed listing this species as endangered on October 29, 2013 (78 FR 64840). Candidate species are afforded no protections under the Act. The California Native Plant Society (CNPS) classifies this species as 1B.1, which denotes that a taxon is seriously endangered in California (CNPS 2012). The full Factor D analysis is described in detail in the October 29, 2013, proposed listing rule (78 FR 64840), and is summarized below.

The existing regulatory mechanisms at the Federal and State levels require evaluation of potential actions that may impact Vandenberg monkeyflower and its habitat on Burton Mesa. At the Federal level, the National Environmental Policy Act (NEPA) requires only evaluation of impacts to the human environment. The Sikes Act requires military installations to develop Integrated Natural Resources Management Plans (INRMPs) to ensure proper consideration of fish, wildlife, and habitat needs on their lands. In 2012, the Air Force approved an Addendum (Air Force 2012) to the 2011 INRMP (Air Force 2011b) that addresses the conservation of Vandenberg monkeyflower and its habitat. Vandenberg monkeyflower is considered a covered species, and the Air Force provides management of the species by identifying the threat of invasive, nonnative plants and proposing actions to limit further spread of, and assist in the restoration of habitat degraded by, invasive, nonnative plants. The Service has approved the INRMP and Addendum as providing a conservation benefit to Vandenberg monkeyflower, and anticipates continued coordination with the Air Force regarding INRMP revisions and future conservation actions relevant to Vandenberg monkeyflower and its habitat. With the exception of this INRMP, no protections are in place at the local, State, and Federal levels that are intended to protect a plant species that is not federally or State listed. Additionally, at least one incident of unauthorized grading occurred without following the required local permit process; loss of Vandenberg monkeyflower individuals and habitat was documented.

Federal and State ownership of much of the occupied Vandenberg monkeyflower habitat and the regulatory framework that defines the use of those Federal and State lands protect the species from direct losses of habitat and provide further protection from many forms of disturbance. However, the current regulatory regime does not address the majority of impacts associated with loss of Vandenberg monkeyflower habitat (i.e., development of private lands that result in habitat loss, fire and fire suppression efforts, authorized and unauthorized recreation activities, and the invasion and expansion of invasive, nonnative species). As described under Factor A in the proposed listing rule and summarized here, the primary threat with the greatest severity and magnitude of impact to Vandenberg monkeyflower is invasive, nonnative species invasion and expansion. Although some protections currently exist for the species and its habitat as a result of existing regulatory mechanisms in place at the local, State, and national levels, our evaluation suggests these protections are inadequate to address the primary threat of invasive, nonnative species to Vandenberg monkeyflower and its habitat (Factor D).

Factor E. Other Natural or Manmade Factors Affecting Its Continued Existence

Competition for Resources With Invasive, Nonnative Species

In Factor A, we discussed how invasive, nonnative plants alter the habitat that supports Vandenberg monkeyflower. In this section, we summarize how invasive, nonnative plants compete with individuals of Vandenberg monkeyflower for light, water, and soil nutrients. Please see the Factor E—Competition for Resources with Invasive, Nonnative Species section of the proposed listing rule for a detailed discussion.

Invasion of nonnative plants and in particular nonnative grasses is a threat to Vandenberg monkeyflower because small annuals such as this species most likely cannot compete with fast-growing nonnative plants for light, water, and soil nutrients (refer to Barrows et al. 2009; Lambrinos 2000; D'Antonio and Vitousek 1992). Grasses have long been recognized as effective competitors with herbaceous and woody species (Davis and Mooney 1985; D'Antonio and Vitousek 1992). For example: (1) Rapidly growing nonnative grasses can reduce light at the soil surface and thereby reduce the photosynthetic ability of competitors (Thompson 1991, pp. 394-395); and (2) nonnative grasses can uptake water and nutrients with their dense, shallow root systems (whereas root systems of most woody species are deeper and less dense than those of grasses); once woody species become large, they are generally thought to have access to moisture and nutrients from portions of the soil profile below grass roots (D'Antonio and Vitousek 1992, p. 70). Grasses are most effective as competitors against seedlings and shallow-rooted annuals rather than saplings or adults of woody species (Davis and Mooney 1985, p. 528; D'Antonio and Vitousek 1992, p. 70). However, Knoop and Walker (1985, p. 249) demonstrated that grasses can reduce water availability in the subsoil at a depth of 1 to 4.25 ft (0.3 to 1.3 m) where shrub roots are common.

Because individuals of Vandenberg monkeyflower are small in stature (growing up to 10 in (25.4 cm) tall), invasive, nonnative plants that grow taller in stature and quicker than this species (such as veldt grass and Sahara mustard; see Factor A—Invasive, Nonnative Plants and Anthropogenic Fire sections of the proposed rule) may inhibit the growth and production of Vandenberg monkeyflower attempting to grow nearby. Moreover, because Vandenberg monkeyflower likely is shallow rooted like other small annual plants that grow in sandy openings within chaparral, invasive, nonnative grasses that occur within and near the species are likely outcompeting it by depleting the water at shallow depths and soil nutrients that it requires. Veldt grass is of particular concern because: (1) It is present at nine (100 percent) of the Vandenberg monkeyflower extant occurrences and one potentially extirpated occurrence (i.e., Lower Santa Lucia Canyon); and (2) it has deep-reaching roots that are able to tolerate Mediterranean climates (Tothill 1962, pp. 132-161). Thus, veldt grass could deplete the water and soil nutrients that would otherwise be available for Vandenberg monkeyflower.

Small Population Size and Restricted Range

According to the criteria put forth by the World Conservation Union, as modified for plants, a species that has life-history, population, and distribution attributes similar to those of Vandenberg monkeyflower is considered to have a high risk of extinction in the wild in the immediate future (Keith 1998, pp. 1085-1087). Species with few populations and individuals are vulnerable to the threat of naturally occurring events, which can cause extinction through mechanisms operating either at the genetic, population, or landscape level (Shaffer 1981, pp. 131-134; Primack 1998, pp. 279-308). The genetic characteristics of Vandenberg monkeyflower have not been investigated; therefore, the degree to which genetic characteristics contribute to the likelihood of this species being vulnerable to extinction is unknown. However, random events operating at the population and landscape levels may increase the chance of extinction for Vandenberg monkeyflower. Although data are not available to determine population trends for this species, the best available information gained from multiple survey years between 2003 and 2012 indicate that 3 occurrences (33 percent) have fewer than 100 individuals. Six occurrences (67 percent) were recently shown to harbor more than 100 individuals, and 2 of those 6 occurrences (22 percent) contained more than 1,000 individuals (see Current Status of Vandenberg Monkeyflower section in the proposed listing rule for further population discussion).

Species with few populations or those with low numbers may be subject to forces at the population level that affect their ability to complete their life cycles successfully. The number and density of flowering plants in a population can be important determinants of pollinator abundance and behavior (Jennersten 1988, pp. 361-363; Bernhardt et al. 2008, p. 948). Reduced numbers of individuals of flowering plants may lead to a reduction in abundance of pollinators and subsequent seed set and fitness of seed progeny (Menges 1991, p. 162). Specific information is not available for Vandenberg monkeyflower; however, these studies on other plant-pollinator relationships point out the importance of pollinators that is likely applicable to Vandenberg monkeyflower.

The establishment and encroachment of nonnative species in and around Vandenberg monkeyflower individuals and populations results in a less diverse plant community. One aspect of this situation is the reduction of native pollinators that are necessary for the continued reproduction of Vandenberg monkeyflower because it is an annual, not a perennial.

Annual plants that are subject to wide fluctuations in population numbers from year to year, such as Vandenberg monkeyflower, may have difficulty maintaining a viable population size after a series of poor seed-production years. Additionally, if the host plants (plants being visited by pollinators) are partially self-incompatible, reduction in population size may lead to increased self-pollination and may reduce the level of genetic variability. At the landscape level, random natural events, such as storms, drought, or fire, could destroy a significant percentage of individuals or entire populations. Because Vandenberg monkeyflower comprises a small number of locations and individuals, and is restricted to a small geographic area on Burton Mesa, this species' risk of extinction increases from such naturally occurring events. No empirical information is available to estimate trends for Vandenberg monkeyflower populations; however, the continued decrease in habitat (especially from nonnative plant invasions) is contributing to habitat fragmentation and impacting the species' ability to persist.

Recreation

Recreational use occurs on Burton Mesa within Vandenberg AFB, the Reserve, and La Purisima Mission SHP. We discussed the effects to Vandenberg monkeyflower habitat resulting from recreational use (see Factor A—Recreation of the proposed rule); however, recreational activities may also result in trampling individuals of Vandenberg monkeyflower. The Volans Avenue occurrence of Vandenberg monkeyflower is adjacent to a sewer line easement that is also used for hiking and dog walking (see Factor A—Recreation of the proposed rule). Recreational users are encouraged to stay within existing and designated trails. No other location where this species occurs is adjacent to designated trails. Therefore, the best available information indicates that recreational activities involving casual human use are having minimal effect on individuals of Vandenberg monkeyflower. Unauthorized recreational activities such as mountain biking and ORV use have resulted in damaged native vegetation, and squashed and sometimes broken plant parts (Meyer in litt. 2010; Meyer in litt. 2013). Determining where the unauthorized ORV activity originates on the Reserve is difficult because of the historical network of trails and roads. Available information does not indicate the extent and degree to which ORV activity and mountain biking may be impacting Vandenberg monkeyflower individuals.

Combination of Factors

Many of the threats discussed above act in concert, and the resulting effects to Vandenberg monkeyflower are amplified. For example, some land uses and development or maintenance activities (Factor A) create ground disturbance and subsequent openings in the vegetation where nonnative plants (Factor A) can invade, expand, and outcompete native vegetation (Factor E). Fires on Burton Mesa (Factor A) result in an increase in nonnative vegetation (Factor A). Similarly, an abundance of nonnative vegetation, particularly grasses (Factors A and E), may result in an increase in fire frequency (Factor A). The availability of habitat and small overall population size (Factor E) may be affected in a changing climate and by events such as wildfire (Factor A). Thus, Vandenberg monkeyflower's productivity may be reduced because of these threats, either singularly or in combination. Existing regulatory mechanisms have not proven effective at protecting Vandenberg monkeyflower or its habitat from these threats (Factor D).

As stated above, the presence of invasive, nonnative plants is the most significant threat to Vandenberg monkeyflower, both alone and in combination with other Factors (e.g., anthropogenic fire, recreation). The combination of factors would likely create a cumulative or synergistic threat to the existence of Vandenberg monkeyflower. Given these circumstances, the combined effects of current threats to the population put the species at risk rangewide.

Please refer to the proposed listing rule (78 FR 64840; October 29, 2013), available at http://www.regulations.gov under Docket No. FWS-R8-ES-2013-0078, for a more detailed discussion of the biological status of Vandenberg monkeyflower and the impacts affecting the species and its habitat, which we have summarized here. Our assessment was based upon the best available scientific and commercial data and expert opinions of our staff.

Summary of Comments and Recommendations

In the proposed rule published on October 29, 2013 (78 FR 64840), we requested that all interested parties submit written comments on the proposal by December 13, 2013. We also contacted appropriate Federal and State agencies, scientific experts and organizations, and other interested parties and invited them to comment on the proposal. Newspaper notices inviting general public comment were published in the Santa Barbara News-Press. We did not receive any requests for a public hearing. All substantive information provided during comment periods has either been incorporated directly into this final determination or is addressed below.

Peer Reviewer Comments

In accordance with our peer review policy published on July 1, 1994 (59 FR 34270), we solicited expert opinion from three knowledgeable individuals with scientific expertise that included familiarity with Vandenberg monkeyflower and its habitat, the geographic region in which the species occurs, and conservation biology principles relevant to the species. We received responses from all three peer reviewers. We reviewed all comments received from the peer reviewers for substantive issues and new information. The peer reviewers provided additional information, clarifications, and suggestions to improve the final listing rule as discussed in more detail below. Peer reviewer comments are addressed in the following summary and incorporated into the final rule as appropriate.

Comment 1: One peer reviewer stated that the shutdown of the California Department of Food and Agriculture's (CDFA) A-rated Noxious Weed Eradication Program in 2011, which provided funding and manpower for projects in Santa Barbara County, would contribute to the nonnative species threat. Another peer reviewer reiterated the threat posed by nonnative species and the difficulty managing them.

Response: We acknowledge the peer reviewers' comments. We agree with the peer reviewers that invasive, nonnative plants are impacting Vandenberg monkeyflower individuals and habitat (see Factor A. The Present or Threatened Destruction, Modification, or Curtailment of Its Habitat or Range—Invasive Nonnative Species). It is unfortunate that CDFA eliminated State funding for all weed programs in 2011, given that invasive, nonnative plants are a significant threat to Vandenberg monkeyflower and its habitat. We have contributed to invasive, nonnative plant control on Burton Mesa, such as through the Service's Partners for Fish and Wildlife Program, to assist La Purisima Mission State Historic Park with veldt grass removal adjacent to Vandenberg monkeyflower populations. We agree that veldt grass and other nonnative plants are a pervasive presence in Vandenberg monkeyflower habitat, and we intend to continue partnering with State Parks, California Department of Fish and Wildlife, and other entities, such as the County of Santa Barbara and local agencies, on efforts to control and remove invasive, nonnative plants from sites on Burton Mesa that impact Vandenberg monkeyflower and other sensitive species.

Comment 2: One peer reviewer provided recommendations for minor changes to the Background section (taxonomy, biology and life history, habitat and soil preferences, spatial distribution, historical range, and population size) of the proposed rule.

Response: We appreciate the suggestions and clarifying information provided by the peer reviewer and the opportunity to incorporate the best available scientific information into the final rule. The information provided by the peer reviewer is related to a section of the proposed rule that is not repeated in this final rule. Nevertheless, we have made use of this information in other sections of this final rule, where appropriate, and it informs our final determination. Moreover, we will similarly use this information in future actions related to Vandenberg monkeyflower. The information did not alter our determination for Vandenberg monkeyflower as an endangered species. The following three comments and responses (i.e., Comments 2(a), 2(b), and 2(c)) are a summary of the peer reviewer's three clarifications and our responses.

Comment 2(a): The peer reviewer noted that in the “Life History” section of the proposed rule, Layia glandulosa (tidytips) and Plantago erecta (plantain) would be better species to provide as examples of other plants that, like Vandenberg monkeyflower, respond to winter rains and bloom earlier in the growing season. The peer reviewer stated that the example we referenced as being similar to Vandenberg monkeyflower, Lessingia glandulifera (lessingia), may not be as good of a comparison because it is a much larger and robust annual that often blooms later in the season and may respond to the occasional summer rain event.

Response: We acknowledge the peer reviewer's comment. While we made reference to lessingia because it is an often co-occurring annual in sandy openings with Vandenberg monkeyflower, we agree that its phenology and response to occasional summer rain events is different than that of Vandenberg monkeyflower, and that some of the other co-occurring annual plant species may be more similar.

Comment 2(b): The peer reviewer noted in the “Distribution” section of the proposed rule conflicting terminology; specifically, we referred to a historical occurrence of Vandenberg monkeyflower located in the Santa Rita Valley also as the Santa Ynez Valley.

Response: We used the descriptions of valley names interchangeably; however, the Santa Rita Valley watershed is a tributary of the larger Santa Ynez Valley watershed, and so the former is a more precise reference to the historical location of this species. We have now clarified this description in this final rule as Santa Rita Valley, where appropriate.

Comment 2(c): The peer reviewer commented that the historical occurrence in the Santa Rita Valley mentioned in the “Distribution” section should be shown on the map of the distribution of Vandenberg monkeyflower occurrences (Figure 2), and we should consider that this historical occurrence may have persisted for a long time and was extirpated by land-use conversion in the area.

Response: We chose to include only the known extant occurrences of Vandenberg monkeyflower in the distribution map presented in the proposed rule (78 FR 64840, 64846). In the Distribution of Vandenberg Monkeyflower—Historical Occurrences section of the proposed rule, we noted that Vandenberg monkeyflower has been extirpated at this location because no suitable habitat remains due to agricultural conversion (including vineyards and berries (Elvin 2009, pers. obs.)) and heavily grazed pastureland (Wilken and Wardlaw 2010, Appendix 2).

Comment 3: One peer reviewer commented on our discussion in the Summary of Factors Affecting the Species section of the proposed rule regarding habitat threats (Factor A) from private land development and the impact to the soil seed bank. The following statement from the proposed rule was unclear to the commenter: “Data are not available on the specific acreage of sandy openings expected to be lost as a result of these projects, but data are provided on the loss of Burton Mesa chaparral and the number of individuals of Vandenberg monkeyflower observed at, or adjacent to, these project sites.”

Response: We appreciate the comment regarding the importance of the soil seed bank for Vandenberg monkeyflower. To clarify the statement mentioned above, it is meant to lay out what information we have about habitat loss resulting from the private land developments. We describe that Vandenberg monkeyflower occurs in sandy openings within Burton Mesa chaparral habitat. Because data measuring specific acreages of sandy openings expected to be lost as a result of these projects are not available (reporting of the loss of Burton Mesa chaparral typically does not include a separate breakdown of loss of sandy openings), we discuss the threat of habitat loss in terms of loss of overall chaparral habitat and the threats to the amount and quality of sandy openings where Vandenberg monkeyflower grows.

Public Comments

We received two public comments. Both were supportive of our proposed listing of Vandenberg monkeyflower as an endangered species, although no specific comments were provided.

Determination

Section 4 of the Act (16 U.S.C. 1533), and its implementing regulations at 50 CFR part 424, set forth the procedures for adding species to the Federal Lists of Endangered and Threatened Wildlife and Plants. Under section 4(a)(1) of the Act, we may list a species based on: (A) The present or threatened destruction, modification, or curtailment of its habitat or range; (B) overutilization for commercial, recreational, scientific, or educational purposes; (C) disease or predation; (D) the inadequacy of existing regulatory mechanisms; or (E) other natural or manmade factors affecting its continued existence. Listing actions may be warranted based on any of the above threat factors, singly or in combination.

We have carefully assessed the best scientific and commercial information available regarding the past, present, and future threats to Vandenberg monkeyflower. We considered the five factors identified in section 4(a)(1) of the Act in determining whether Vandenberg monkeyflower meets the Act's definition of an endangered species (section 3(6)) or a threatened species (section 3(20)). We determined that Vandenberg monkeyflower is endangered by the present or threatened destruction, modification, or curtailment of its habitat or range (Factor A), and other natural or manmade factors affecting its continued existence (Factor E). The greatest threat to Vandenberg monkeyflower is the presence and expansion of invasive, nonnative plants that are abundant on Burton Mesa, particularly occurring within or adjacent to all known occurrences of Vandenberg monkeyflower. Additionally, many of the threats act in concert, and the resulting effects to Vandenberg monkeyflower are amplified.

We did not identify threats to Vandenberg monkeyflower due to overutilization for commercial, recreational, scientific, or educational purposes (Factor B); or disease or predation (Factor C). Although regulatory mechanisms (Factor D) are in place that provide some protection to Vandenberg monkeyflower and its habitat, these mechanisms do not completely alleviate all of the threats currently acting on the species.

In the summary of the threats described in detail above, we found that Vandenberg monkeyflower suitable habitat on Burton Mesa has been displaced by military, residential, and commercial development, although the most significant ongoing threat to Vandenberg monkeyflower is the loss of habitat due to the presence and continual spread of invasive, nonnative plants (Factor A). Approximately 53 percent of Burton Mesa chaparral habitat has been lost, with only 10,057 ac (4,070 ha) of the 23,550 ac (9,350 ha) that existed before 1938 remaining. Additionally, invasive, nonnative plants, in particular veldt grass, are present and continuing to expand at all nine extant locations. No Vandenberg monkeyflower individuals have been observed at the three smallest extant locations in the last 3 years at one location and the last 6 years at the other two locations even though a residual seed bank is likely present. Burton Mesa chaparral is also subject to an anthropogenic fire regime that can increase the presence of invasive plants (Factor A). Casual human recreational use and utility maintenance activities can contribute to habitat disturbance that facilitates pathways for nonnative species to invade Burton Mesa chaparral habitat (Factor A).

Furthermore, invasive, nonnative plants are likely competing with Vandenberg monkeyflower for sunlight, water, and soil resources, and the species' restricted range and small population size make it vulnerable to changing environmental conditions due to climate change and other random, naturally occurring events (Factor E). Small population size is a highlighted concern in part due to the low number of individuals found to exist at the 3 smallest extant occurrences; in particular, 3 of the 9 occurrences have a range of 0 to 25 individuals documented between 2003 and 2012. The threats described above for Vandenberg monkeyflower occur across its entire range, resulting in a negative impact on the species' distribution, abundance, and probability of long-term persistence. Existing regulatory mechanisms are not adequate to protect the species or its habitat from these identified threats (Factor D).

The Act defines an endangered species as any species that is “in danger of extinction throughout all or a significant portion of its range” and a threatened species as any species “that is likely to become endangered throughout all or a significant portion of its range within the foreseeable future.” We find that Vandenberg monkeyflower is facing ongoing and projected threats across its range, and because of its restricted range and population size, it is vulnerable to extinction from elevated threats. We conclude that it meets the definition of an endangered species throughout its entire range due primarily to: (1) The invasion, spread, and competition of invasive, nonnative species at all nine extant locations; (2) the species occurs only on Burton Mesa and over one-half of the habitat has been lost; and (3) its small population size makes it vulnerable to stochastic events. These impacts are heightened due to anthropogenic fire conditions that promote further invasion of nonnative species; recreation and other human activities that contribute to the spread of invasive, nonnative species; and continued development on private lands that further reduces and fragments the remaining suitable habitat. The threats to its continued existence are not commencing in the foreseeable future (which would result in a status determination of a threatened species), but are immediate and ongoing. We base this determination on the immediacy, severity, and scope of the threats described above. Therefore, on the basis of the best available scientific and commercial information, we are listing Vandenberg monkeyflower as an endangered species in accordance with sections 3(6) and 4(a)(1) of the Act.

Under the Act and our implementing regulations, a species may warrant listing if it meets the definition of an endangered or threatened species throughout all or a significant portion of its range. The Vandenberg monkeyflower that is proposed for listing in this rule is highly restricted in its range and the threats occur throughout its range. Therefore, we assessed the status of Vandenberg monkeyflower throughout its entire range. The threats to the survival of the species occur throughout the species' range and are not restricted to any particular significant portion of that range. Accordingly, our assessment and proposed determination applies to the species throughout its entire range.

Available Conservation Measures

Conservation measures provided to species listed as endangered or threatened under the Act include recognition, recovery actions, requirements for Federal protection, and prohibitions against certain practices. Recognition through listing results in public awareness and conservation by Federal, State, Tribal, and local agencies, private organizations, and individuals. The Act encourages cooperation with the States and requires that recovery actions be carried out for all listed species. The protection required by Federal agencies and the prohibitions against certain activities are discussed, in part, below.

The primary purpose of the Act is the conservation of endangered and threatened species and the ecosystems upon which they depend. The ultimate goal of such conservation efforts is the recovery of these listed species, so that they no longer need the protective measures of the Act. Subsection 4(f) of the Act requires the Service to develop and implement recovery plans for the conservation of endangered and threatened species. The recovery planning process involves the identification of actions that are necessary to halt or reverse the species' decline by addressing the threats to its survival and recovery. The goal of this process is to restore listed species to a point where they are secure, self-sustaining, and functioning components of their ecosystems.

Recovery planning includes the development of a recovery outline shortly after a species is listed and preparation of a draft and final recovery plan. The recovery outline guides the immediate implementation of urgent recovery actions and describes the process to be used to develop a recovery plan. Revisions of the plan may be done to address continuing or new threats to the species, as new substantive information becomes available. The recovery plan identifies site-specific management actions that set a trigger for review of the five factors that control, for example, whether a species remains endangered or may be downlisted or delisted, and methods for monitoring recovery progress. Recovery plans also establish a framework for agencies to coordinate their recovery efforts and provide estimates of the cost of implementing recovery tasks. Recovery teams (composed of species experts, Federal and State agencies, nongovernmental organizations, and stakeholders) are often established to develop recovery plans; however, we have not coordinated a team nor initiated efforts on a recovery plan at this time. When completed, a recovery outline, draft recovery plan, and the final recovery plan for Vandenberg monkeyflower will be available on our Web site (http://www.fws.gov/endangered), or from our Ventura Fish and Wildlife Office (see FOR FURTHER INFORMATION CONTACT).

Implementation of recovery actions generally requires the participation of a broad range of partners, including other Federal agencies, States, Tribes, nongovernmental organizations, businesses, and private landowners. Examples of recovery actions include habitat restoration (e.g., restoration of native vegetation), research, captive propagation and reintroduction, and outreach and education. The recovery of many listed species cannot be accomplished solely on Federal lands because their range may occur primarily or solely on non-Federal lands. To achieve recovery of these species requires cooperative conservation efforts on private, State, and Tribal lands.

Based on this final listing rule, funding for recovery actions may be available from a variety of sources, including Federal budgets, State programs, and cost-share grants for non-Federal landowners, the academic community, and nongovernmental organizations. In addition, pursuant to section 6 of the Act, the State of California will be eligible for Federal funds to implement management actions that promote the protection or recovery of Vandenberg monkeyflower. Information on our grant programs that are available to aid species recovery can be found at: http://www.fws.gov/grants.

Please let us know if you are interested in participating in recovery efforts for Vandenberg monkeyflower. Additionally, we invite you to submit any new information on this species whenever it becomes available and any information you may have for recovery planning purposes (see FOR FURTHER INFORMATION CONTACT).

Section 7(a) of the Act requires Federal agencies to evaluate their actions with respect to any species that is proposed or listed as an endangered or threatened species and with respect to its critical habitat, if any is designated. Regulations implementing this interagency cooperation provision of the Act are codified at 50 CFR part 402. Section 7(a)(4) of the Act requires Federal agencies to confer with the Service on any action that is likely to jeopardize the continued existence of a species proposed for listing or result in destruction or adverse modification of proposed critical habitat. If a species is listed subsequently, section 7(a)(2) of the Act requires Federal agencies to ensure that activities they authorize, fund, or carry out are not likely to jeopardize the continued existence of the species or destroy or adversely modify its critical habitat. If a Federal action may affect a listed species or its critical habitat, the responsible Federal agency must enter into consultation with the Service.

Federal agency actions within the species' habitat that may require conference or consultation or both as described in the preceding paragraph include the Department of Defense, the Bureau of Prisons, Army Corps of Engineers, the Federal Energy Regulatory Commission, and the Federal Highway Administration. Activities potentially include management and any other landscape-altering activities on Federal lands administered by the Department of Defense or the Bureau of Prisons, issuance of section 404 Clean Water Act permits by the Army Corps of Engineers, construction and management of gas pipeline and power line rights-of-way licensed by the Federal Energy Regulatory Commission, and funding by the Federal Highway Administration for the construction and maintenance of roads or highways.

It is our policy, as published in the Federal Register on July 1, 1994 (59 FR 34272), to identify to the maximum extent practicable at the time a species is listed, those activities that would or would not constitute a violation of section 9 of the Act. The intent of this policy is to increase public awareness of the effect of a listing on proposed and ongoing activities within the range of listed species. The Act and its implementing regulations set forth a series of general prohibitions and exceptions that apply to endangered and threatened plants. The Service codified the Act's prohibitions applicable to endangered plants at 50 CFR 17.71. The regulations at 50 CFR 17.71(a) make it illegal for any person subject to the jurisdiction of the United States to import or export, transport in interstate or foreign commerce in the course of a commercial activity, sell or offer for sale in interstate or foreign commerce, or remove and reduce the species to possession from areas under Federal jurisdiction, but 50 CFR 17.71(a) contains an exception for the seeds of cultivated specimens, provided that a statement that the seeds are of “cultivated origin” accompanies the seeds or their container. The following activities could potentially result in a violation of section 9 of the Act; this list is not comprehensive:

(1) Removing and reducing to possession Vandenberg monkeyflower from areas under Federal jurisdiction.

(2) Malicious damage or destruction of Vandenberg monkeyflower on areas under Federal jurisdiction.

(3) Unauthorized collecting, handling, possessing, selling, delivering, carrying, or transporting across State lines and importing or exporting across international boundaries, except for properly documented antique specimens of these taxa at least 100 years old, as defined by section 10(h)(1) of the Act.

Questions regarding whether specific activities would constitute a violation of section 9 of the Act should be directed to the Ventura Fish and Wildlife Office (see FOR FURTHER INFORMATION CONTACT).

Required Determinations

National Environmental Policy Act (42 U.S.C. 4321 et seq.)

We have determined that environmental assessments and environmental impact statements, as defined under the authority of the National Environmental Policy Act (NEPA; 42 U.S.C. 4321 et seq.), need not be prepared in connection with listing a species as an endangered or threatened species under the Endangered Species Act. We published a notice outlining our reasons for this determination in the Federal Register on October 25, 1983 (48 FR 49244).

Government-to-Government Relationship With Tribes

In accordance with the President's memorandum of April 29, 1994 (Government-to-Government Relations with Native American Tribal Governments; 59 FR 22951), Executive Order 13175 (Consultation and Coordination with Indian Tribal Governments), and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with tribes in developing programs for healthy ecosystems, to acknowledge that tribal lands are not subject to the same controls as Federal public lands, to remain sensitive to Indian culture, and to make information available to tribes. With regard to Vandenberg monkeyflower, there are no tribal lands affected by this final rule.

References Cited

A complete list of references cited in this rulemaking is available on the Internet at http://www.regulations.gov and upon request from the Ventura Fish and Wildlife Office (see FOR FURTHER INFORMATION CONTACT).

Authors

The primary authors of this final rule are the staff members of the Service's Ventura Fish and Wildlife Office and Region 8 Regional Office.

List of Subjects in 50 CFR Part 17

Endangered and threatened species, Exports, Imports, Reporting and recordkeeping requirements, Transportation.

Regulation Promulgation

Accordingly, we amend part 17, subchapter B of chapter I, title 50 of the Code of Federal Regulations, as follows:

PART 17—[AMENDED]

1. The authority citation for part 17 continues to read as follows:

Authority: 16 U.S.C. 1361-1407; 1531-1544; 4201-4245, unless otherwise noted.

2. Amend § 17.12(h) by adding an entry for “Diplacus vandenbergensis” in alphabetical order under Flowering Plants to the List of Endangered and Threatened Plants to read as follows:

§ 17.12 Endangered and threatened plants.

* * * * *

(h) * * *

Species: Scientific name | Species: Common name | Historic range | Family | Status | When listed | Critical habitat | Special rules
Flowering Plants
* * * * * * *
Diplacus vandenbergensis | Vandenberg monkeyflower | U.S.A. (CA) | Phrymaceae | E | 847 | NA | NA
* * * * * * * |

* * * * *

Dated: July 24, 2014.
Stephen Guretin,
Acting Director, U.S. Fish and Wildlife Service.

[FR Doc. 2014-20054 Filed 8-25-14; 8:45 am]

BILLING CODE 4310-55-P